DEPARTMENT OF THE INTERIOR

Bureau of Land Management

[CO-956-7130-BJ-7334-241A]

Colorado: Filing of Plats of Survey

June 29, 2000

The plats of survey of the following described land will be officially filed in the Colorado State Office, Bureau of Land Management, Lakewood, Colorado, effective 10:00 am., June 29, 2000. All inquiries should be sent to the Colorado State Office, Bureau of Land Management, 2850 Youngfield Street, Lakewood, Colorado 80215-7093.

The plat representing the corrective dependent resurvey of a portion of the subdivisional lines and section 21, and the dependent resurvey of the subdivision of sections 20 and 22 in T. 33 N. R. 10 W., New Mexico Principal Meridian, Group 1064, Colorado, was accepted May 9, 2000.

This survey was requested by the Bureau of Indian Affairs for administrative purposes.

The plat representing the dependent resurvey of portions of the Montezuma Townsite and Mineral Survey No. 1292 B, Monarch Millsite, and a metes and bounds survey in the northwest quarter of the northeast quarter of section 35, T. 5 S., R. 76 W., Sixth Principal Meridian, Group 1258, Colorado was accepted April 25, 2000.

This survey was requested by the Forest Service for administrative purposes.

The plat, in 6 sheets, representing the dependent resurvey of a portion of the north boundary, a portion of the subdivisional lines, and certain mineral claims in section 1, and the subdivision survey of section 1 and a metes-and-bounds survey in section 1, T. 1 N., R. 73 W., Sixth Principal Meridian, Group 875, Colorado, was accepted April 26, 2000.

The plat representing the dependent resurvey of portions of the east boundary, subdivisional lines, and certain homestead entry surveys, and the subdivision of certain sections in T. 11 N., R. 102 W., Sixth Principal Meridian, Group 1219, Colorado, was accepted April 14, 2000.

The plat representing the dependent resurvey of portions of the subdivisional lines, and certain tracts, and the subdivision of certain sections in T. 11 N., R. 101 W., Sixth Principal Meridian, Group 1219, Colorado, was accepted April 14, 2000.

The plat, in 2 sheets, represents the dependent resurvey of a portion of the subdivisional lines, and the dependent resurvey of certain mineral claims, and the subdivision of sections 16 and 17, and the metes-and-bounds survey of certain lot lines, T. 22 S., R. 72 W., Sixth Principal Meridian, Group 1166, Colorado, was accepted April 11, 2000.

The plat representing the dependent resurvey of a portion of the subdivisional lines, and the subdivision of section 26, T. 2 N., R. 78 W., Sixth Principal Meridian, Group 1259, Colorado, was accepted April 6, 2000.

The plat representing the dependent resurvey of the west boundary (Ute Meridian) and a portion of the north boundary, subdivisional lines, and the subdivision of section 6, and the subdivision of a portion of section 6, and the meanders of the present right bank of the Gunnison River of section 6 in Fractional T. 2 S., R. 1 E., Ute Meridian, Group 1163, Colorado, was accepted June 21, 2000.

The plat representing the dependent resurvey of a portion of the north boundary, and the survey of the boundary between lots 1 and 2 in section 1, of Fractional T. 2 S., R. 1 W., Ute Meridian, Group 1163, Colorado, was accepted June 21, 2000.

The plat representing the dependent resurvey of a portion of the east boundary (Ute Meridian), and the survey of the boundary between lots 12 and 14, of section 36, the survey of the partition line between sections 31 and 36, and the meanders of the present right bank of the Gunnison River in lot 14 of section 36, and the informative traverse of the meanders of the present right bank of the Gunnison River in lot 12, of section 36, T. 1 S., R. 1 W., Ute Meridian, Group 1163, Colorado, was accepted June 21, 2000.

The plat representing the dependent resurvey of a portion of the subdivisional lines and portions of certain mineral surveys the subdivision of section 28, and the remonumentation of certain original corners, T. 20 S., R. 71 W., Sixth Principal Meridian, Group 1209, Colorado, was accepted June 5, 2000.

The plat representing the dependent resurvey of a portion of the east boundary, subdivisional lines, and the subdivision of section 13, and the subdivision of a portion of section 13, T. 1 S., R. 2 E., Ute Meridian, Group 1204, Colorado, was accepted May 24, 2000.

The plat representing the metes-and-bounds survey of a portion of the centerline of Colorado State Highway No. 64 with ties to certain tract corners in sections 29 and 32, T. 1 N., R. 95 W., Sixth Principal Meridian, Group 1226, Colorado, was accepted May 24, 2000.

The plat representing the dependent resurvey of certain mineral surveys designed to restore the corners in their true original locations according to the best available evidence in suspended T. 42 N., R. 7 W., New Mexico Principal Meridian, Group 1239, Colorado, was accepted May 11, 2000.

The plat representing the entire record of the dependent resurvey of certain mineral surveys designed to restore the corners in their true original locations according to the best available evidence in suspended T. 42 N., R. 7 W., New Mexico Principal Meridian, Group 1239, Colorado, was accepted May 11, 2000.

The plat representing the entire record of the dependent resurvey of M.S. No. 2140B, Buckingham Mill Site, and M.S. No. 5112B, May B. Mill Site, in suspended T. 43 N., R. 7 W., New Mexico Principal Meridian, Group 1206, Colorado, was accepted May 11, 2000.

The plat, in 5 sheets, representing the dependent resurvey of certain mineral claims designed to restore the corners in their true original locations according to the best available evidence, suspended T. 42 N., R. 7 W., New Mexico Principal Meridian, Group 1206, Colorado, was accepted May 11, 2000.

The plat represents the dependent resurvey of a portion of the South boundary and a portion of the South boundary and a portion of the subdivisional lines, designed to restore the corners in their true original locations according to the best available evidence, and the subdivision surveys of certain sections, T. 1 S., 81 W., Sixth Principal Meridian, Group 1232, Colorado, was accepted May 4, 2000.

The supplemental plat creating new lot 26 in the North ½ of section 13, T. 15 S., R. 70 W., Sixth Principal Meridian, Colorado, was accepted April 3, 2000.

The supplemental plat creating new lot 13 from the portion of unpatented M.S. 1516, Little Wonder Lode excluded from M.S. 18519, Susie, Nettie, and Little May Lodes, in the SW ¼ of Section 32, T. 41 N., R. 11 W., New Mexico Principal Meridian, Colorado, was accepted April 10, 2000.

These surveys were requested by the BLM for Administrative Purposes.

Darryl A. Wilson,
Chief Cadastral Surveyor for Colorado.

[FR Doc. 00-17857 Filed 7-13-00; 8:45 am]

BILLING CODE 4310-JB-P